NATIONAL SCIENCE FOUNDATION

Advisory Committee for International Science and Engineering; Notice of Meeting

In accordance with Federal Advisory Committee Act (Pub. L. 92-463, as amended), the National Science Foundation announces the following meeting:

Name: Advisory Committee for International Science and Engineering (#25104).

Date/Time:

February 9, 2006 8:30 a.m. to 5 p.m.

February 10, 2006 8:30 a.m. to noon.

Place: National Science Foundation, 4201 Wilson Boulevard, Room 920, Arlington, VA.

Type of Meeting: Open.

Contact Person: Eduardo Feller, National Science Foundation, 4201 Wilson Boulevard, Arlington, VA 22230, (703) 292-8710.

If you are attending the meeting and need access to the NSF, please contact the individual listed above so your name may be added to the building access list.

Purpose of Meeting: To provide advice concerning issues related to the current NSF international programs and initiatives.

Agenda

February 9, 2006

Introductions and Updates—Current initiatives, budget and programs. Activities of the NSF overseas Offices. Update on the Partnerships for International Research and Education.

February 10, 2006

Committee discussion of current international initiatives and programs. Initiatives for the coming fiscal year. Planning for the next meeting, feedback and other business.

Dated: January 11, 2006.
Susanne Bolton,
Committee Management Officer.

[FR Doc. 06-375 Filed 1-13-06; 8:45 am]

BILLING CODE 7555-01-M